DEPARTMENT OF HOMELAND SECURITY

Coast Guard

[Docket No. USCG-2016-1061]

Proposed Termination of U.S. Coast Guard Rebroadcast of HYDROLANT and HYDROPAC Information

ACTION: Notice and request for comments.

SUMMARY: The United States Coast Guard may cease rebroadcasting HYDROLANT and HYDROPAC (defined below) navigational warnings from the National Geospatial-Intelligence Agency (NGA) over HF SITOR (defined below). There is not a requirement for the Coast Guard to rebroadcast this information, although the Coast Guard has been voluntarily doing so for a number of years, and doing so is duplicative of NGA's broadcast. The information would continue to be disseminated by the NGA. This notice requests public comment on the possibility of terminating the rebroadcast over HF SITOR.

DATES: Comments must be submitted to the online docket via http://www.regulations.gov, on or before July 13, 2018.

ADDRESSES: You may submit comments identified by docket number USCG-2016-1061 using the Federal eRulemaking Portal at http://www.regulations.gov. See the “Public Participation and Request for Comments” portion of the SUPPLEMENTARY INFORMATION section for further instructions on submitting comments.

FOR FURTHER INFORMATION CONTACT: For information about this document, please call or email Derrick Croinex, Chief, Spectrum Management and Telecommunications Policy, U.S. Coast Guard (Commandant CG-672); telephone: 202-475-3551; email: derrick.j.croinex@uscg.mil

SUPPLEMENTARY INFORMATION:

Abbreviations

GMDSS Global Maritime Distress and Safety System

HF SITOR High Frequency Simplex Teletype Over Radio service

HYDROLANT Navigational Warnings Categorized by their Atlantic Ocean Location

HYDROPAC Navigational Warnings Categorized by their Pacific Ocean/Pacific Rim Location

NGA National Geospatial-Intelligence Agency

NTM Notice to Mariners

WWNWS Worldwide Navigational Warnings Service

Public Participation and Request for Comments

We encourage you to submit comments (or related material) on the possible termination of the USCG's rebroadcast of HYDROLANT and HYDROPAC information. We will consider all submissions received before the comment period closes. If you submit a comment, please include the docket number for this notice, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that website's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

Discussion

In support of the Global Maritime Distress and Safety System (GMDSS), Broadcast Warnings are promulgated by the Worldwide Navigational Warnings Service (WWNWS) to provide rapid dissemination of information critical to navigation and the safety of life at sea.

Broadcast Warnings are issued regularly by the WWNWS and contain information about persons in distress, or objects and events that pose an immediate hazard to navigation. The four types of Navigational Warnings—NAVAREA IV, HYDROLANT, NAVAREA XII, and HYDROPAC—are categorized by their location. In addition, warnings are issued for the Arctic region not covered by HYDROLANT and HYDROPAC messages. A graphic showing the locations of the Navigational Warning areas is available on NGA's website at http://msi.nga.mil/MSISiteContent/StaticFiles/Images/navwarnings.jpg. Additional information regarding this program is available at the following NGA website: http://msi.nga.mil/NGAPortal/MSI.portal?_nfpb=true&_pageLabel=msi_portal_page_63.

NGA currently provides, and will continue to provide, global broadcast through HYDROLANT, HYDROPAC, and HYDROARC messages over INMARSAT maritime satellite telecommunications services which are principally directed to the U.S. Navy (USN) and National Geospatial Intelligence Agency (NGA) partners. NGA also is charged with promulgation of the U.S. Notice to Mariners (NTM) and it satisfies this via the NGA website and email subscription, which can be monitored via INMARSAT-C maritime satellite telecommunications services. In accordance with the International Hydrographic Organization's (IHO) World-Wide Navigational Warning Service (WWNWS), the United States is solely responsible for Broadcast Warnings to the NAVAREA IV and XII geographic locations. Broadcast Warning messages are also available at Google Earth.

Other notices, Special Warnings and Maritime Administration (MARAD) Advisories, are issued infrequently and contain information about potential hazards caused by the global political climate.

In addition, a Daily Memorandum is issued each week day by NGA, excluding federal holidays, and contains a summary of all Broadcast Warnings and Special Warnings promulgated during the past 24-72 hours. The Atlantic Edition includes HYDROLANT and NAVAREA IV Warnings, while the Pacific Edition includes HYDROPAC and NAVAREA XII Warnings. Both editions include Special Warnings and HYDROARC Warnings issued during the same period.

In light of all of the foregoing ways in which this weather-related information is available to mariners, the Coast Guard's rebroadcasting of these warnings has become unnecessary. Rebroadcasting this information has become very time consuming for the Coast Guard, and it takes limited resources away from other safety missions performed by the Coast Guard. Therefore, we believe it is in the public interest for the Coast Guard to cease rebroadcasting of this information.

Before terminating the rebroadcasting of WWNWS weather warnings, we will consider comments from the public. After considering any comments received, the Coast Guard will issue a notice in the Federal Register indicating how the matter will be resolved.

This notice is issued under authority of 14 U.S.C. 93(a)(16) and in accordance with 5 U.S.C. 552(a).

Dated: May 8, 2018.
Derrick J. Croinex,
Chief, Spectrum Management and Telecommunications Policy.

[FR Doc. 2018-10215 Filed 5-11-18; 8:45 am]

BILLING CODE 9110-04-P